ENVIRONMENTAL PROTECTION AGENCY

[ER-FRL-6677-4]

Environmental Impacts Statements; Notice of Availability

Responsible Agency: Office of Federal Activities, General Information (202) 564-7167 or http://www.epa.gov/compliance/nepa/.

Weekly receipt of Environmental Impact Statements.

Filed 7/10/2006 through 7/14/2006.

Pursuant to 40 CFR 1506.9.

EIS No. 20060292, Draft EIS, SFW, CA, Orange County Southern Subregion Habitat Conservation Plan (HCP), Implementation, Application for and Incidental Take Permit, Orange County, CA,

Comment Period Ends: 9/18/2006, Contact: Karen Goebel , 760-431-9440.

EIS No. 20060293, Final EIS, SFW, 00, Upper Mississippi River National Wildlife and Fish Refuge, Comprehensive Conservation Plan, A New Alternative E: Modified Wildlife and Integrated Public Use, Implementation, MN, WI, Il and IA,

Wait Period Ends: 8/21/2006, Contact: Don Hultman 507-452-4232.

This document is available on the Internet at http://www.fws.gov/midwet/planning/UpperMiss/FinalEIS.html.

EIS No. 20060294, Draft Supplement, AFS, CA, Rock Creek Recreational Trails Project, Updated Information on Habitat Status and Population Trend for the Pacific Deer Herd, Implementation, Eldorado National Forest, Eldorado County, CA,

Comment Period Ends: 9/5/2006, Contact: Charis Parker, 530-333-4312.

EIS No. 20060295, Draft EIS, BLM, WY, Casper Field Office Planning Area Resource Management Plan, Implementation, Natrona, Converse, Goshen, and Platte Counties, WY,

Comment Period Ends: 09/18/2006, Contact: Linda Stone 307-261-7600.

EIS No. 20060296, Draft EIS, AFS, CA, South Yuba Canal Maintenance Project, Hazardous Trees Removal, Implementation, Tahoe National Forest, Nevada County, CA,

Comment Period Ends: 9/5/2006, Contact: Dennis W. Stevens, 530-478-6253.

EIS No. 20060297, Draft EIS, FHW, NC, NC-24 Transportation Improvements, from west of I-95 to I-40, Funding, U.S. Army COE 404 Permit, Cumberland, Sampson, and Duplin Counties, NC,

Comment Period Ends: 9/11/2006 Contact: John Sullivan, III, 919-856-4346.

EIS No. 20060298, Draft EIS, AFS, CO, Arapahoe Basin 2006 Improvement Plan, Enhancing the Recreational Experience Addressing Lifts, Parking, and Terrain Network, Montezuma Bowl, Implementation, U.S. Army COE 404 Permit, White River National Forest, Summit County, CO,

Comment Period Ends: 9/5/2006, Contact: Peech Keller, 970-468-5400.

EIS No. 20060299, Draft EIS, FRC, NY, Niagara Project, Hydroelectric Relicensing Application FERC No. 2216, Niagara River, Niagara County, NY,

Comment Period Ends: 9/5/2006, Contact: Steve Kartalia, (202) 502-6131.

Dated: July 18, 2006.
Ken Mittelholtz,
NEPA Compliance Division, Office of Federal Activities.

[FR Doc. E6-11603 Filed 7-20-06; 8:45 am]

BILLING CODE 6560-50-P